DEPARTMENT OF HEALTH AND HUMAN SERVICES

Office of Refugee Resettlement

[C.F.D.A. Number: 93.584]

Notice of FY 2013 Refugee Targeted Assistance Formula Awards to States and Wilson/Fish Alternative Project Grantees

AGENCY: Office of Refugee Resettlement, ACF, HHS.

ACTION: Notice of awards.

SUMMARY: The Office of Refugee Resettlement (ORR), Administration for Children and Families (ACF), announces the allocation of Refugee Targeted Assistance formula awards to States and Wilson/Fish Alternative Project grantees.

DATES: The awards are effective immediately.

FOR FURTHER INFORMATION CONTACT: Henley Portner, Office of the Director, Office of Refugee Resettlement, (202) 401-5363, Henley.Portner@acf.hhs.gov.

SUPPLEMENTARY INFORMATION: Refugee Targeted Assistance award allocations are available on the ORR Web page. The table of FY 2013 Allocations to Counties and Targeted Assistance Areas and the Table of FY 2013 Allocations to States may be found at: http://www.acf.hhs.gov/programs/orr/spotlight#announcements.

The purpose of the Targeted Assistance program is to provide employment and other resettlement services to refugees, Amerasians, asylees, Cuban and Haitian entrants, victims of trafficking, and Iraqis and Afghans with Special Immigrant Visas. The grants are awarded to States on behalf of counties with the greatest number of arrivals of the eligible populations. Services provided are intended to assist refugees obtain employment within one year's participation in the program and to achieve self-sufficiency. Awards are determined by the number of the eligible populations residing in each county during the two-year period from October 1, 2010, to September 30, 2012.

Funds must be obligated by September 30, 2014, and funds must be expended by September 30, 2015.

ACF reminds recipients and members of the public that a Federal Register notice, concerning a change in procedures that requires electronic submission of State/Tribal plans and reporting, is open for comment through August 27, 2013. The notice is available in Federal Register, Volume 78, No. 125, published on June 28, 2013, and at http://www.gpo.gov/fdsys/pkg/FR-2013-06-28/pdf/2013-15465.pdf.

Statutory Authority: Section 412(c)(2)(A) of the Immigration and Nationality Act (INA) (8 U.S.C. 1522).

Eskinder Negash,
Director, Office of Refugee Resettlement.

[FR Doc. 2013-20370 Filed 8-20-13; 8:45 am]

BILLING CODE 4184-46-P